NATIONAL SCIENCE FOUNDATION

Committee Management; Notice of Establishment

The Deputy Director of the National Science Foundation has determined that the establishment of NSF-NASA—National Astronomy and Astrophysics Advisory Committee is necessary and in the public interest in connection with the performance of duties imposed upon the National Science Foundation (NSF), by 42 U.S.C. 1861 et seq. This determination follows consultation with the Committee Management Secretariat, General Services Administration.

Name of Committee: NSF-NASA National Astronomy and Astrophysics Advisory Committee (#13883).

Purpose: Advise the National Science Foundation (NSF) and the National Aeronautics and Space Administration (NASA) on selected issues within the field of astronomy and astrophysics that is of mutual interest and concern to the two agencies.

Responsible NSF Official: G. Wayne Van Citters, Division Director, Division of Astronomical, National Science Foundation, 4201 Wilson Boulevard, Suite 405, Arlington, VA 22230. Telephone: 703/292-8200.

Dated: September 5, 2002.
Susanne Bolton,
Committee Management Officer.

[FR Doc. 02-23052 Filed 9-10-02; 8:45 am]

BILLING CODE 7555-01-M